ENVIRONMENTAL PROTECTION AGENCY

[ER-FRL-6693-6]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at 202-564-7167. An explanation of the ratings assigned to draft environmental impact statements (EISs) was published in FR dated April 6, 2007 (72 FR 17156).

Draft EISs

EIS No. 20070359, ERP No. DS-BLM-L65462-AK, Northeast National Petroleum Reserve—Alaska Integrated Activity Plan, Updated Information, addressing the need for more Oil and Gas Production through Leasing Lands, Consideration of 4 Alternatives, North Slope Borough, AK.

Summary: EPA expressed environmental objections to each action alternative because of potential adverse impacts to wetlands, aquatic habitat and fish and wildlife. EPA suggests considering an alternative that will reduce the potential impacts, especially to water quality, by retaining the current leasing acreage, and surface activity restrictions, incorporating both performance based stipulations and Required Operating Procedures until data on effectiveness of these measures become available.

Rating EO2.

Final EISs

EIS No. 20070398, ERP No. F-BLM-L65510-AK, Kobuk-Seward Peninsula Resource Management Plan, from Point Lay to the North Sound and from the Bering and Chukchi Seas East to the Kobuk River, AK.

Summary: While the final EIS provides for the development of a habitat management plan, EPA continues to have environmental concerns about impacts to resources from the lack of specific requirements for the abandonment, removal, and reclamation of activities relating to resource exploration, development, and operation after leases have expired and operations have cease.

EIS No. 20070418, ERP No. F-NPS-E65078-NC, North Shore Road, Great Smoky Mountains National Park, General Management Plan, Implementation, Fontana Dam, Swain County, NC.

Summary: EPA does not object to the selection of the preferred alternative.

EIS No. 20070433, ERP No. F-BIA-L65495-ID, PROGRAMMATIC—Coeur d' Alene Tribe Integrated Resource Management Plan, Implementation, Coeur d' Alene Reservation and Aboriginal Territory, ID.

Summary: No formal comment letter was sent to the preparing agency.

Dated: November 27, 2007.
Ken Mittelholtz,
Environmental Protection Specialist, Office of Federal Activities.

[FR Doc. E7-23242 Filed 11-29-07; 8:45 am]

BILLING CODE 6560-50-P